DEPARTMENT OF COMMERCE

International Trade Administration

[A-520-809]

Prestressed Concrete Steel Wire Strand From the United Arab Emirates: Preliminary Intent To Rescind the New Shipper Review; 2024

AGENCY: Enforcement and Compliance, International Trade Administration, Department of Commerce.

SUMMARY: The U.S. Department of Commerce (Commerce) preliminarily finds that Essen Steel Industry L.L.C. (Essen Steel) did not make a bona fide sale during the period of review (POR), February 1, 2024, through July 31, 2024. Therefore, we preliminarily determine to rescind this new shipper review (NSR).

DATES: Applicable November 26, 2025.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On February 1, 2021, Commerce published the Order on prestressed concrete steel wire strand (PC strand) from the United Arab Emirates (UAE).¹ On August 5, 2024, pursuant to section 751(a)(2)(B)(i) of the Tariff Act of 1930, as amended (the Act), and 19 CFR 351.214(c), Commerce received a timely NSR request from Essen Steel.² On September 13, 2024, based on Essen Steel's NSR request, we published in the Federal Register a notice of initiation of the NSR.³ On December 9, 2024, Commerce tolled the deadline to issue the preliminary results in this new shipper review by 90 days.⁴ On May 7, 2025, Commerce extended the deadline to issue the preliminary results of this NSR by 60 days, to August 5, 2025, in accordance with section 751(a)(2)(B)(iv) of the Act and 19 CFR 351.214(i)(2).⁵ Additionally, on July 17, 2025, Commerce extended the deadline to issue the preliminary results by an additiona l59 days.⁶ On September 30, 2025, Commerce extended the deadline to issue the preliminary results by one day.⁷ Finally, due to the lapse in appropriations and Federal Government shutdown, on November 14, 2025, Commerce tolled all deadlines in administrative proceedings by 47 days.⁸ Accordingly, the deadline for the preliminary results is now November 20, 2025. For a complete description of the events that followed the initiation of this NSR, see the Preliminary Decision Memorandum.⁹

¹ See Prestressed Concrete Steel Wire Strand from Argentina, Colombia, Egypt, the Netherlands, Saudi Arabia, Taiwan, the Republic of Turkey, and the United Arab Emirates: Antidumping Duty Orders, 86 FR 7703 (February 1, 2021) (Order).

² See Essen Steel's Letter, “Request for New Shipper Administrative Review of Antidumping Duty Order,” dated August 5, 2024 (Essen Steel's NSR Request).

³ See Prestressed Concrete Steel Wire Strand from the United Arab Emirates: Initiation of Antidumping Duty New Shipper Review, 89 FR 74887 (September 13, 2024).

⁴ See Memorandum, “Tolling of Deadlines for Antidumping and Countervailing Duty Proceedings,” dated December 9, 2024.

⁵ See Memorandum, “Extension of Deadline for Preliminary Results of Antidumping Duty New Shipper Review,” dated May 7, 2025.

⁶ See Memorandum, “Second Extension of Deadline for Preliminary Results of Antidumping Duty New Shipper Review,” dated July 17, 2025.

⁷ See Memorandum, “Third Extension of Deadline for Preliminary Results of Antidumping Duty New Shipper Review,” dated September 30, 2025.

⁸ See Memorandum, “Deadlines Affected by the Shutdown of the Federal Government,” dated November 14, 2025.

⁹ See Memorandum, “Decision Memorandum for the Preliminary Intent to Rescind the New Shipper Review of the Antidumping Duty Order on Prestressed Concrete Steel Wire Strand from the United Arab Emirates,” dated concurrently with this notice (Preliminary Decision Memorandum).

Scope of the Order

The merchandise covered by this Order is PC strand from the UAE. For a complete description of the scope of the Order, see the Preliminary Decision Memorandum.

Methodology

Commerce conducted this review in accordance with section 751(a)(2)(B) of the Act. For a full description of the methodology underlying our conclusions, see the Preliminary Decision Memorandum. The list of topics discussed in the Preliminary Decision Memorandum is attached in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Intent To Rescind the Antidumping Duty NSR

As discussed in the Preliminary Decision Memorandum and the Bona Fides Sales Analysis Memorandum,¹⁰ Commerce preliminarily finds Essen Steel did not make a bona fide sale during the POR.¹¹ Commerce reached this conclusion based on the totality of the circumstances, including, among other things, the sale price and quantity. Because Essen Steel did not make any bona fide sales during the POR, we preliminarily determine to rescind this review.¹² Because the factual information used in our bona fides analysis of Essen Steel's sale involves business proprietary information (BPI), a full discussion of our analysis is in the BPI Bona Fides Memo.

¹⁰ See Memorandum, “Bona Fides Sales Analysis of Essen Steel Industry L.L.C.,” dated concurrently with this notice (Bona Fides Memo).

¹¹ Id.

¹² Id.; see also Preliminary Decision Memorandum.

Public Comment

Interested parties are invited to comment on the preliminary intent to rescind this NSR. Pursuant to 19 CFR 251.309(c)(1)(ii), we have modified the deadline for interested parties to submit case briefs to Commerce to no later than 21 days after the date of publication of this notice. Rebuttal briefs, limited to issues raised in case briefs, may be submitted no later than five days after the deadline date for case briefs.¹³ Pursuant to 19 CFR 351.309(c)(2) and (d)(2), parties who submit case briefs or rebuttal briefs in this review are encouraged to submit with each argument: (1) a table of contents listing each issue; and (2) a table of authorities.

¹³ See 19 CFR 351.309(d)(1); see also Administrative Protective Order, Service, and Other Procedures in Antidumping and Countervailing Duty Proceedings, 88 FR 67069, 67077 (September 29, 2023) (APO and Service Final Rule).

As provided under 19 CFR 351.309(c)(2) and (d)(2), in prior proceedings we have encouraged interested parties to provide an executive summary of their brief that should be limited to five pages total, including footnotes. In this NSR, we instead request that interested parties provide at the beginning of their briefs a public, executive summary for each issue raised in their briefs.¹⁴ Further, we request that interested parties limit their public executive summary of each issue to no more than 450 words, not including citations. We intend to use the public executive summaries as the basis of the comment summaries included in the issues and decision memorandum that will accompany the final results in this NSR. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.¹⁶ Requests should contain: (1) the party's name, address, and telephone number, (2) the number of participants and whether any participant is a foreign national, and (3) a list of the issues to be discussed. If a request for a hearing is made, Commerce intends to hold the hearing at a time and date to be determined.¹⁷ Parties should confirm by telephone the date and time of the hearing two days before the scheduled date.

¹⁶ See 19 CFR 351.310(c).

¹⁷ See 19 CFR 351.310(d).

Unless otherwise extended, we intend to issue the final results of this NSR, which will include the results of our analysis of the issues raised in the case and rebuttal briefs, no later than 90 days after the date of issuance of this notice, unless extended, pursuant to section 751(a)(2)(B)(iv) of the Act.

Assessment Rates

If Commerce issues a final rescission of this NSR, it intends to instruct U.S. Customs and Border Protection (CBP) to liquidate the relevant entry at the all-others' rate.

If Commerce does not proceed to a final rescission of this NSR, Commerce will determine, and CBP shall assess, antidumping duties on all appropriate entries covered by this review, in accordance with 19 CFR 351.212(b)(1). If the respondent's weighted-average dumping margin is zero or de minimis in the final results, Commerce will instruct CBP to liquidate the appropriate entries without regard to duties. If the respondent's weighted-average dumping margin is above de minimis (i.e., 0.5 percent) in the final results of this review, Commerce will calculate importer-specific (or customer-specific) assessment rates on the basis of the ratio of the total amount of dumping calculated for the importer's examined sales to the total entered value of those sales, in accordance with 19 CFR 351.212(b)(1). If an importer-specific rate is zero or de minimis, Commerce will instruct CBP to liquidate the appropriate entries without regard to antidumping duties.

Commerce intends to issue assessment instructions to CBP 35 days after the publication of the final results of this NSR in the Federal Register. If a timely summons is filed at the U.S. Court of International Trade, the assessment instructions will direct CBP not to liquidate relevant entries until the time for parties to file a request for a statutory injunction has expired (i.e., within 90 days of publication).

Cash Deposit Requirements

If Commerce proceeds to a final rescission of this NSR, the cash deposit rate will continue to be the all-others rate for Essen Steel because Commerce will not have determined an individual weighted-average dumping margin for Essen Steel. If Commerce determines an individual weighted-average dumping margin for Essen Steel, it intends to instruct CBP to collect cash deposits, effective upon the publication of the final results of review, equal to the calculated weighted-average dumping margin.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(2)(B) and 777(i)(1) of the Act and 19 CFR 351.214.

Dated: November 20, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

A. Bona Fides Analysis

V. Recommendation

[FR Doc. 2025-21197 Filed 11-25-25; 8:45 am]

BILLING CODE 3510-DS-P